DEPARTMENT OF TRANSPORTATION

Federal Aviation Administration

Proposed Advisory Circular; Compliance Criteria for 14 CFR 33.28, Aircraft Engines, Electrical and Electronic Engine Control Systems

AGENCY: Federal Aviation Administration, DOT.

ACTION: Notice of availability of proposed advisory circular and request for comments.

SUMMARY: This notice announces the availability of proposed Advisory Circular (AC) No. 33.28-1, Compliance Criteria for 14 CFR 33.28, Aircraft Engines, Electrical and Electronic Engine Control Systems.

DATES: Comments must be received on or before April 25, 2000.

ADDRESSES: Send all comments on the proposed AC to the Federal Aviation Administration, Attn: Engine and Propeller Standards Staff, ANE-110, Engine and Propeller Directorate, Aircraft Certification Service, 12 New England Executive Park, Burlington, MA 01803-5299.

FOR FURTHER INFORMATION CONTACT: Cosimo Bosco, Engine and Propeller Standards Staff, ANE-110, at the above address, telephone (781) 238-7118, fax (781) 238-7199.

SUPPLEMENTARY INFORMATION:

Comments Invited

A copy of the subject Act may be obtained by contacting the person named above under FOR FURTHER INFORMATION CONTACT. Interested persons are invited to comment on the proposed AC and to submit such written data, views, or arguments as they desire. Commenters must identify the subject of the AC and submit comments in duplicate to the address specified above. All communications received on or before the closing date for comments will be considered by the Engine and Propeller Directorate, Aircraft Certification Service, before issuance of the final AC.

Background

This proposed AC provides guidance material for methods of complying with § 33.28, Electrical and Electronic Control (EEC) Systems. Initially, EEC technology was primarily applied to engines designed for large transport aircraft applications; the certification practice and implementation of § 33.28 was oriented toward these applications. When the use of EEC technology was limited to a small group of manufacturers, the information and guidance provided in the rule itself was adequate. However, with the proliferation of EEC controls, the need for additional advisory material has become evident in several recent engine certification programs. Additionally, industry representatives that design engines for applications other than large transport aircraft certificated under part 25 have questioned the criteria used to determine equivalence to the typical hydromechanical systems.

(Authority: 49 U.S.C. 106(g), 40113, 44701-44702, 44704.)

Issued in Burlington, Massachusetts, on January 14, 2000.
David A. Downey,
Assistant Manager, Engine and Propeller Directorate, Aircraft Certification Service.

[FR Doc. 00-1818 Filed 1-25-00; 8:45 am]

BILLING CODE 4910-13-M